DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Micropatterning of Extracellular Matrix Proteins Using Microphotoablation of Poly Vinyl Alcohol (PVA) Monolayers

Description of Technology: Available for licensure and commercial development is a microphotoablation (μPA) method used as a micropatterning technique to attach ECM proteins or other biological molecules to specified locations. Advantages of this photolytic technique are that it: (a) Is stampless, (b) allows for flexible pattern generation to the submicron level, (c) allows for live cell fluorescence imaging, retains cell viability, and (d) allows the use of multiple proteins. The technique has demonstrated experimentally that micropatterning with live cell fluorescence imaging can be used to precisely visualize studying distinct cell-ECM interactions.

Applications of microlithography techniques into the study of cell biology aid in resolving cellular function as regulated by the interaction of cells with the extracellular matrix. Currently many techniques have used micro-contact patterning (μCP) to apply ECM proteins in distinct localized patterns. These techniques require the fabrication of silicone-based stamps to either “ink” proteins directly or indirectly onto a gold coated surface, limiting the user to a specified stamp shape and size. To bypass the necessity of a physical stamp the current technique provides submicron-sized spots using a tunable multiphoton laser coupled to a confocal microscope to photoablate hydrophilic poly vinyl alcohol (PVA) macro-molecular thin films. Through controlled photoablation, PVA layers are locally removed allowing deposition of ECM proteins into distinct patterns. The use of ROI's produces a “virtual mask” that can be created in any shape or pattern and is easily modified. Unlike μCP techniques, microphotoablation (μPA) allows live cell imaging of multiple fluorophores and is possible even with total internal reflection fluorescence (TIRF) microscopy. Therefore, microphotoablation (μPA) allows kinetic quantification of ECM-cell interactions. This technique that uses a macro-molecular thin film together with localized photoablation allows the versatility to create protein spots of any size or shape easily on the same cover slip. Furthermore, this process can be repeated multiple times to directly conjugate different proteins to the same local region allowing the investigation of how single cells probe their surroundings to discern different ECM proteins.

Applications: Cellular interactions; Protein visualization; Diagnostics.

Inventors: Andrew Doyle (NIDCR), Kenneth Yamada (NIDCR), et al.

Relevant Publications

1. CM Cheng, PR LeDuc. Micropatterning polyvinyl alcohol as a biomimetic material through soft lithography with cell culture. Mol Biosyst. 2006 Jun;2(6-7):299-303.

2. T Matsuda, T Sugawara. Development of surface photochemical modification method for micropatterning of cultured cells. J Biomed Mater Res. 1995 Jun;29(6):749-756.

Patent Status: U.S. Provisional Application No. 60/979,045 filed 10 Oct 2007 (HHS Reference No. E-001-2008/0-US-01).

Licensing Status: Available for licensing.

Licensing Contact: Michael A. Shmilovich, Esq.; 301/435-5019; shmilovm@mail.nih.gov.

Collaborative Research Opportunity: The National Institute of Dental and Craniofacial Research is seeking statements of capability or interest from parties interested in collaborative research to further develop, evaluate, or commercialize Microphotoablation of Poly Vinyl Alcohol (PVA) Monolayers. Please contact David W. Bradley, Ph.D. at bradleyda@nidcr.nih.gov for more information.

Chimeric SHIV Gag Proteins Optimize T-Cell Response Against HIV Gag

Description of Technology: HIV Gag has been included in nearly all HIV vaccines entering clinical trials because of its importance in SIV models and its correlation with protection in HIV-infected long-term non-progressors. However, HIV Gag has proven less immunogenic than Env in phase I clinical trial studies. Through sequence comparison, two regions in HIV Gag have been identified as contributing to the decreased immunogenicity observed for HIV Gag. Replacement of these regions with corresponding SIV sequences significantly increased the resulting T-cell response to HIV Gag in mice. Utilization of these chimera in an HIV vaccine could significantly enhance the overall immunogenicity of the vaccine.

Applications: HIV vaccine.

Inventors: Gary J. Nabel et al. (NIAID).

Patent Status

U.S. Provisional Application No. 60/965,268 filed 17 Aug 2007 (HHS Reference No. E-304-2007/0-US-01).

U.S. Patent No. 7,094,598 issued 22 Aug 2006 (CMV/R expression vector) and pending foreign applications (HHS Reference No. E-241-2001/1-US-01).

Development Status: Animal (mouse) data available.

Licensing Status: Available for exclusive or non-exclusive licensing.

Licensing Contact: Susan Ano, Ph.D.; 301/435-5515; anos@mail.nih.gov.

Dated: December 11, 2007.
Steven M. Ferguson,
Director,Division of Technology Development and Transfer,Office of Technology Transfer,National Institutes of Health.

[FR Doc. E7-24530 Filed 12-18-07; 8:45 am]

BILLING CODE 4140-01-P